DEPARTMENT OF AGRICULTURE

Forest Service

Saltwater Shoreline-based Outfitter Guide Capacity Environmental Impact Statement

AGENCY: Forest Service, USDA.

ACTION: Notice of intent to prepare an Environmental Impact Statement.

SUMMARY: The Department of Agriculture, Forest Service, will prepare an Environmental Impact Statement (EIS) to authorize outfitter/guide (O/G) activities within four Ranger Districts of the Tongass National Forest for a period of five years. The analysis will consider saltwater shoreline-based commercial recreation use on Admiralty Island National Monument and Juneau, Hoonah and Sitka Ranger Districts. The decision to prepare an EIS is a result of initial public involvement that began with a scoping letter in October 1998. During 1998 and 1999 meetings were held with six communities and three organizations within the affected area. A letter summarizing the results of this public involvement and requesting additional comments will be distributed January 2000. The Record of Decision will disclose how the Forest Service has decided to allocate saltwater shoreline-based recreation capacity for O/G and noncommercial recreation uses. The Assistant Forest Supervisor will also decide whether or not to amend the Tongass Land and Resource Management Plan to allocate use levels for long-term management of commercial outfitting and guiding.

The total recreation capacity of the study area has been determined via an analysis of available shoreline capacity based on the Recreation Opportunity Spectrum, Tongass Forest Plan standards and guidelines dealing with encounters, and physical conditions such as anchorages, shoreline facilities, and resource concerns. Proposed allocations are based on a percentage of the total recreation carrying capacity of individual Use Areas, or subunits within the Use Areas. Use Areas are geographic areas that correspond to Guide Use Areas defined by the Alaska Department of Fish and Game for the administration of guided hunting. Under the Proposed Action, allocation of commercial guided use during the summer season would range from 10 to 40 percent of the total recreation carrying capacity and would depend on considerations such as distance from communities, subsistence use and potential impacts to resources. The Proposed Action would allocate up to 80 percent of this commercial capacity to brown bear hunting guides during both spring and fall hunts, and the remaining commercial capacity to other non-hunting O/G's. A No Action Alternative and other alternatives which respond to significant issues will be developed, analyzed and compared in the Draft EIS.

DATE: To be most useful comments concerning the scope of this project should be received by the end of February 2000.

ADDRESSES: Please send written comments to: Alaska Regional Office, Ecosystem Planning Attn.: Julie Schaefers, Shoreline-based O/G Capacity EIS, P.O. Box 21628, Juneau, AK 99802-1628.

FOR FURTHER INFORMATION CONTACT: Julia Schaefers, Planning Team Leader, Alaska Regional Office, P.O. Box 21628, Juneau, AK 99802-1628, telephone (907) 586-8796 or Marti Marshall, Recreation Specialist, Tongass National Forest, 204 Siginaka Way, Sitka, AK 99835, telephone (907) 747-4234.

SUPPLEMENTARY INFORMATION: During January and February of 2000 the Forest Service will be seeking information, comments, and assistance from Federal, State and local agencies, tribal organizations, individuals, and organizations that may be interested in, or affected by the proposed activities. Comments received as a result of both the earlier public involvement and the current scoping will be included in this analysis. All comments will be analyzed to identify issues to be considered in the Draft EIS. Issues currently identified for analysis in the EIS include potential effects of the allocation to economic opportunities, conflicts between commercial operations, displacement of resident users, impacts to wildlife habitat, and the effect on subsistence uses.

Based on the results of scooping, alternatives will be developed, analyzed, and compared in the Draft EIS. The Draft EIS will be filed with the Environmental Protection Agency (EPA) in September 2000. Comments on the DEIS will be considered and responded to in the Final EIS, to be completed by January 2001.

The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement maybe waived or dismissed by the courts. City of Angoon v. Hodel, 803 F.2d 1016, 1022 (9th Cir. 1986) and Wisconsin Heritages,Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this solicitation, including names and addresses of those who comment, will be considered part of the public record on this Proposed Action and will be available for public inspection and may be released under FOIA. Comments submitted anonymously will be accepted and considered; however, those who submit anonymous comments will not have standing to appeal the subsequent decision (36 CFR Parts 215 or 217).

Responsible Official: Fred Salinas, Assistant Forest Supervisor, Tongass National Forest, 204 Siginaka Way, Sitka, Alaska 99835-7316, is the responsible official. In making the decision, the responsible official will consider the comments, responses, disclosure of environmental consequences, and applicable laws, regulations, and policies. The responsible official will state the rationale for the chosen alternative and the Record of Decision.

Dated: January 4, 2000.
Fred S. Salinas,
Assistant Forest Supervisor.

[FR DOC. 00-1108 Filed1-14-00;8:45am]

[BILLING CODE 3410-11-M